DEPARTMENT OF THE INTERIOR

Fish and Wildlife Service

U.S. Fish and Wildlife Service and Confederated Salish and Kootenai Tribes Draft Annual Funding Agreement

AGENCY: Fish and Wildlife Service, Interior.

ACTION: Notice of availability.

SUMMARY: The U.S. Fish and Wildlife Service (Service) is making available for public review a draft annual funding agreement (draft AFA or draft agreement) with the Confederated Salish and Kootenai Tribes (CSKT) under the Indian Self-Determination and Education Assistance Act, as amended by the Tribal Self-Governance Act of 1994. This action is taken at the discretion of the Service to provide public review opportunity and solicit comments from the public for a 90-day period.

DATES: Written comments should be received by October 12, 2004.

ADDRESSES: You may submit written comments and information to the U.S. Fish and Wildlife Service, National Bison Range, 132 Bison Range Road, Moiese, Montana 59824 or by facsimile to (406) 644-2661. You may hand-deliver written comments to the National Bison Range at the address given above. You may send comments by electronic mail (e-mail) to draftafapubliccomments@fws.gov. All comments provided become part of the official public record. If requested under the Freedom of Information Act by a private citizen or organization, the Service may provide copies of comments.

You may obtain copies of the draft AFA, by appointment, during normal business hours, from the U.S. Fish and Wildlife Service, National Bison Range, 132 Bison Range Road, Moiese, Montana 59824, (406) 644-2211. In addition, copies may be obtained from U.S. Fish and Wildlife Service Regional Office, Mountain-Prairie Region, National Wildlife Refuge System, P.O. Box 25486, Denver, Colorado 80225-0486, (303) 236-4306, or from the Confederated Salish and Kootenai Tribes, P.O. Box 278, Pablo, Montana 59855, (406) 675-2700. The draft AFA is also available on the Internet at http://mountain-prairie.fws.gov/cskt-fws-negotiation.

FOR FURTHER INFORMATION CONTACT: Steve Kallin, Refuge Manager, National Bison Range, U.S. Fish and Wildlife Service, (406) 644-2211, extension 204.

SUPPLEMENTARY INFORMATION: In spring 2003, the Confederated Salish and Kootenai Tribes submitted a formal request to reinitiate negotiations related to compacting of activities at the National Bison Range and ancillary properties (Northwest Montana Wetland Management District, Pablo and Ninepipe NWRs), pursuant to the Indian Self-Determination and Education Assistance Act (Pub. L. 93-638). In response to this request, negotiations between the CSKT and the Service on an annual funding agreement for that portion of the National Bison Range Complex within the Flathead Indian Reservation began in the summer of 2003.

The Tribal Self-Governance Act of 1994 was enacted as an amendment to Pub. L. 93-638 and incorporated as Title IV of that Act. The Self-Governance Act allows qualifying self-governance tribes the opportunity to request AFAs with the Bureau of Indian Affairs (BIA) and non-BIA agencies within the Department of the Interior. When dealing with non-BIA agencies, including the Service, qualifying tribes may enter into AFAs that would allow them to conduct certain activities of such non-BIA agencies. Eligible activities include Indian programs (programs created for the benefit of Indians because of their status as Indians); activities otherwise available to Indian tribes (any activity that a Federal agency might otherwise contract to outside entities); and activities that have a special geographic, historical, or cultural significance to an Indian tribe.

Pub. L. 93-638 and the regulations that implement the law (25 CFR part 1000.129) prohibit the inclusion of activities in an AFA that are inherently Federal functions. The Refuge has no special Indian programs. All activities of the Service on national wildlife refuges are for the benefit of the fish and wildlife resources, their habitats, and the American public. Activities that may have a special relationship with a tribe are the most promising for inclusion in an AFA. Whether to enter into an agreement with a tribe for these activities is discretionary on the part of the Service. The Service recognizes that many members of the CSKT who live near the National Bison Range have a cultural, historical, or geographical connection to the land and resources of the National Bison Range and, therefore, may feel very much part of these lands. The proposed draft agreement provides for the CSKT to perform certain programs, services, functions, and activities for the National Bison Range Complex during a 1-year period.

Dated: July 6, 2004.
Matt Hogan,
Acting Director, U.S. Fish and Wildlife Service.

[FR Doc. 04-15859 Filed 7-13-04; 8:45 am]

BILLING CODE 4310-55-P